DEPARTMENT OF HEALTH AND HUMAN SERVICES

Centers for Medicare & Medicaid Services

[Document Identifier: CMS-10282, CMS-R-65, CMS-R-39, CMS-10491, and CMS-R-52]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by November 25, 2013.

ADDRESSES: When commenting on the proposed information collections, please reference the document identifier or OMB control number. To be assured consideration, comments and recommendations must be received by the OMB desk officer via one of the following transmissions:

OMB, Office of Information and Regulatory Affairs, Attention: CMS Desk Officer, Fax Number: (202) 395-6974, OR Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of a previously approved collection; Title of Information Collection: Conditions of Participation for Comprehensive Outpatient Rehabilitation Facilities (CORFs) and Supporting Regulations; Use: The Conditions of Participation (CoPs) and accompanying requirements specified in the regulations are used by our surveyors as a basis for determining whether a comprehensive outpatient rehabilitation facility (CORF) qualifies to be awarded a Medicare provider agreement. We believe the health care industry practice demonstrates that the patient clinical records and general content of records are necessary to ensure the well-being and safety of patients and that professional treatment and accountability are a normal part of industry practice. Form Number: CMS-10282 (OCN: 0938-1091); Frequency: Yearly; Affected Public: Private sector—Business or other for-profit and Not-for-profit institutions; Number of Respondents: 314; Total Annual Responses: 314; Total Annual Hours: 8,076. (For policy questions regarding this collection contact Jacqueline Leach at 410-786-4282.)

2. Type of Information Collection Request: Reinstatement with change of a previously approved collection; Title of Information Collection: Final Peer Review Organizations Sanction Regulations in 42 CFR Sections 1004.40, 1004.50, 1004.60, and 1004.70; Use: The Peer Review Improvement Act of 1982 amended Title XI of the Social Security Act (the Act), creating the Utilization and Quality Control Peer Review Organization Program. Section 1156 of the Act imposes obligations on health care practitioners and others who furnish or order services or items under Medicare. This section also provides for sanction actions, if the Secretary determines that the obligations as stated by this section are not met. Quality Improvement Organizations (QIOs) are responsible for identifying violations. The QIOs may allow practitioners or other entities, opportunities to submit relevant information before determining that a violation has occurred. The information collection requirements contained in this information collection request are used by the QIOs to collect the information necessary to make their decision. Form Number: CMS-R-65 (OCN: 0938-0444); Frequency: On occasion; Affected Public: Private sector—Business or other for-profit and Not-for-profit institutions; Number of Respondents: 53; Total Annual Responses: 53; Total Annual Hours: 14,310. (For policy questions regarding this collection contact Coles Mercier at 410-786-2112.)

3. Type of Information Collection Request: Reinstatement with change of a previously approved collection; Title of Information Collection: Home Health Conditions of Participation (CoP) and Supporting Regulations; Use: The information collection requirements contained in this request are part of the requirements classified as the conditions of participation (CoPs) which are based on criteria prescribed in law and are standards designed to ensure that each facility has properly trained staff to provide the appropriate safe physical environment for patients. These particular standards reflect comparable standards developed by industry organizations such as the Joint Commission on Accreditation of Healthcare Organizations, and the Community Health Accreditation Program. We will use this information along with state agency surveyors, the regional home health intermediaries and home health agencies (HHAs) for the purpose of ensuring compliance with Medicare CoPs as well as ensuring the quality of care provided by HHA patients. Form Numbers: CMS-R-39 (OCN: 0938-0365); Frequency: Occasionally; Affected Public: Private sector—Business or for-profits and Not-for-profit institutions, and State, Local or Tribal governments; Number of Respondents: 13,577; Total Annual Responses: 20,202,576; Total Annual Hours: 6,422,694. (For policy questions regarding this collection contact Danielle Shearer at 410-786-6617.)

4. Type of Information Collection Request: New collection (Request for a new OMB control number); Title of Information Collection: Enrollment Assistance Program; Use: As required by the Affordable Care Act, we will implement a grant-based Navigator Program to provide support to targeted communities. However, there will also be a need for broader based enrollment assistance in population centers we identified in states with Federally-facilitated Marketplaces (FFMs) to provide Health Insurance Marketplace enrollment assistance to populations not covered or targeted by the Navigator Program. The target populations are individual consumers and families eligible to enroll in Qualified Health Plans (QHPs) in population centers we identified. Without such access to in-person enrollment assistance, millions of individuals who will be eligible for health insurance coverage in the Marketplaces might not have access to the direct assistance required to make educated choices on available healthcare options and may therefore be unable to successfully enroll in the Marketplaces. To monitor program effectiveness, the Enrollment Assistance Program will provide weekly, monthly, quarterly and annual reports. The 60-day Federal Register notice was published on July 29, 2013 (78 FR 45205). No comments were received. Form Number: CMS-10491 (OCN: 0938-NEW); Frequency: Weekly, Monthly, Quarterly, Yearly; Affected Public: Private Sector; Number of Respondents: 11; Number of Responses: 84; Total Annual Hours: 554. (For policy questions regarding this collection contact Jabaar Gray at 301-492-4255.)

5. Type of Information Collection Request: Reinstatement with change of a previously approved collection; Title of Information Collection: Conditions for Coverage of Suppliers of End Stage Renal Disease (ESRD) Services and Supporting Regulations; Use: The information collection requirements described herein are part of the Medicare and Medicaid Programs; Conditions for Coverage for End-Stage Renal Disease Facilities. The requirements fall into two categories: Recordkeeping requirements and reporting requirements. With regard to the recordkeeping requirements, we use these conditions for coverage to certify health care facilities that want to participate in the Medicare or Medicaid programs. For the reporting requirements, the information is needed to assess and ensure proper distribution and effective utilization of ESRD treatment resources while maintaining or improving quality of care. The recordkeeping requirements imposed by this collection are no different than other conditions for coverage in that they reflect comparable standards developed by industry organizations such as the Renal Physicians Association, American Society of Transplant Surgeons, National Kidney Foundation, and the National Association of Patients on Hemodialysis and Transplantation. Form Number: CMS-R-52 (OCN: 0938-0386); Frequency: Annually; Affected Public: Private sector—Business or other for-profit; Number of Respondents: 6,464; Total Annual Responses: 139,110; Total Annual Hours: 523,454. (For policy questions regarding this collection contact Lauren Oviatt at 410-786-4683.)

Dated: October 22, 2013.
Martique Jones,
Deputy Director, Regulations Development Group, Office of Strategic Operations and Regulatory Affairs.

[FR Doc. 2013-25171 Filed 10-24-13; 8:45 am]

BILLING CODE 4120-01-P